ENVIRONMENTAL PROTECTION AGENCY

[FRL-9522-9]

Agency Information Collection Activities OMB Responses

AGENCY: Environmental Protection Agency (EPA).

ACTION: Notice.

SUMMARY: This document announces the Office of Management and Budget (OMB) responses to Agency Clearance requests, in compliance with the Paperwork Reduction Act (44 U.S.C. 3501 et. seq.). An agency may not conduct or sponsor, and a person is not required to respond to, a collection of information unless it displays a currently valid OMB control number. The OMB control numbers for EPA regulations are listed in 40 CFR part 9 and 48 CFR chapter 15.

FOR FURTHER INFORMATION CONTACT: Rick Westlund (202) 566-1682, or email at westlund.rick@epa.gov and please refer to the appropriate EPA Information Collection Request (ICR) Number.

SUPPLEMENTARY INFORMATION:

OMB Responses To Agency Clearance Requests

OMB Approvals

EPA ICR Number 2071.05; NESHAP for Printing, Coating and Dyeing of Fabrics and Other Textiles; 40 CFR part 63 subparts A and OOOO; was approved on 09/12/2012; OMB Number 2060-0522; expires on 09/30/2015; Approved without change.

EPA ICR Number 0997.10; NSPS for Petroleum Dry Cleaners; 40 CFR part 60 subparts A and JJJ; was approved on 09/14/2012; OMB Number 2060-0079; expires on 09/30/2015; Approved without change.

EPA ICR Number 2040.05; NESHAP for Refractory Products Manufacturing; 40 CFR part 63 subparts A and SSSSS; was approved on 09/14/2012; OMB Number 2060-0515; expires on 09/30/2015; Approved without change.

EPA ICR Number 1541.10; NESHAP for Benzene Waste Operations; 40 CFR part 61 subparts A and FF; was approved on 09/14/2012; OMB Number 2060-0183; expires on 09/30/2015; Approved without change.

EPA ICR Number 1100.14; NESHAP for Radionuclides; 40 CFR part 61 subparts B, K, R and W; was approved on 09/14/2012; OMB Number 2060-0191; expires on 09/30/2015; Approved without change.

EPA ICR Number 1745.07; Criteria for Classification of Solid Waste Disposal Facilities and Practices (Renewal); 40 CFR part 257 subpart B; was approved on 09/14/2012; OMB Number 2050-0154; expires on 09/30/2015; Approved without change.

EPA ICR Number 1775.06; Hazardous Remediation Waste Management Requirements (HWIR-Media) (Renewal); 40 CFR parts 264 and 270; and 40 CFR 271.21; was approved on 09/14/2012; OMB Number 2050-0161; expires on 09/30/2015; Approved without change.

EPA ICR Number 2042.05; NESHAP for Semiconductor Manufacturing; 40 CFR part 63 subparts A and BBBBB; was approved on 09/14/2012; OMB Number 2060-0519; expires on 09/30/2015; Approved without change.

EPA ICR Number 1951.05; NESHAP for Paper and Other Web Coating; 40 CFR part 63 subparts A and JJJJ; was approved on 09/14/2012; OMB Number 2060-0511; expires on 09/30/2015; Approved without change.

EPA ICR Number 1976.05; NESHAP for Reinforced Plastic Composites Production; 40 CFR part 63 subparts A and WWWW; was approved on 09/14/2012; OMB Number 2060-0509; expires on 09/30/2015; Approved without change.

EPA ICR Number 1954.05; NESHAP for the Surface Coating of Large Household and Commercial Appliances; 40 CFR part 63 subparts A and NNNN; was approved on 09/14/2012; OMB Number 2060-0457; expires on 09/30/2015; Approved without change.

EPA ICR Number 1938.05; NESHAP for Municipal Solid Waste Landfills; 40 CFR part 63 subparts A and AAAA; was approved on 09/14/2012; OMB Number 2060-0505; expires on 09/30/2015; Approved without change.

EPA ICR Number 1891.06; NESHAP for Publicly-Owned Treatment Works; 40 CFR part 63 subparts A and VVV; was approved on 09/14/2012; OMB Number 2060-0428; expires on 09/30/2015; Approved without change.

EPA ICR Number 2027.05; NESHAP for Flexible Polyurethane Foam Fabrication; 40 CFR part 63 subparts A and MMMMM; was approved on 09/15/2012; OMB Number 2060-0516; expires on 09/30/2015; Approved without change.

EPA ICR Number 2437.02; NSPS for Oil and Natural Gas Production and Natural Gas Transmission and Distribution; 40 CFR part 60 subparts A and OOOO; was approved on 09/17/2012; OMB Number 2060-0673; expires on 09/30/2015; Approved without change.

EPA ICR Number 2439.02; NESHAP for Natural Gas Transmission and Storage; 40 CFR part 63 subparts A and HHH; was approved on 09/17/2012; OMB Number 2060-0670; expires on 09/30/2015; Approved without change.

EPA ICR Number 2438.02; NSPS for Onshore Natural Gas Processing Plants; 40 CFR part 60 subparts A, KKK and LLL; was approved on 09/17/2012; OMB Number 2060-0672; expires on 09/30/2015; Approved without change.

EPA ICR Number 2373.05; Mandatory Reporting of Greenhouse Gases: Additional Sources of Fluorinated Greenhouse Gases, Subparts I, L, DD, SS, and QQ (Technical Correction); 40 CFR part 98, subparts I, L, DD, QQ and SS; was approved on 09/18/2012; OMB Number 2060-0650; expires on 12/31/2013; Approved with change.

EPA ICR Number 1852.05; Exclusion Determinations for New Nonroad Spark-ignited Engines, New Nonroad Compression-ignited Engines, and New On-road Heavy Duty Engines (Renewal); 40 CFR part 85 subpart R; 40 CFR part 89 subpart J; 40 CFR part 90 subpart J; 40 CFR part 91 subpart K; 40 CFR part 92 subpart J; 40 CFR part 94 subpart J; 40 40 CFR 1039.5, 1045.5, 1048.5, 1051.5 and 1054.5; CFR part 1068 subpart C; was approved on 09/20/2012; OMB Number 2060-0395; expires on 09/30/2015; Approved without change.

EPA ICR Number 2440.02; NESHAP for Oil and Natural Gas Production; 40 CFR part 63 subparts A and HH; was approved on 09/21/2012; OMB Number 2060-0671; expires on 09/30/2015; Approved without change.

EPA ICR Number 2029.05; NESHAP for Asphalt Processing and Asphalt Roofing Manufacturing; 40 CFR part 63 subparts A and LLLLL; was approved on 09/21/2012; OMB Number 2060-0520; expires on 09/30/2015; Approved without change.

EPA ICR Number 1995.05; NESHAP for Coke Oven Pushing, Quenching, and Battery Stacks; 40 CFR part 63 subparts A and CCCCC; was approved on 09/21/2012; OMB Number 2060-0521; expires on 09/30/2015; Approved without change.

EPA ICR Number 1736.06; EPA's Natural Gas STAR Program (Renewal); was approved on 09/21/2012; OMB Number 2060-0328; expires on 09/30/2015; Approved without change.

Comment Filed

EPA ICR Number 2465.01; NSPS for Greenhouse Gas Emissions for New Electric Utility Generating Units; in 40 CFR part 60 subparts A and TTTT; OMB filed comment on 09/04/2012.

EPA ICR Number 1801.10; NESHAP for the Portland Cement Manufacturing Industry; in 40 CFR part 63 subparts A and LLL; OMB filed comment on 09/21/2012.

John Moses,
Director, Collections Strategies Division.

[FR Doc. 2012-24863 Filed 10-9-12; 8:45 am]

BILLING CODE 6560-50-P